INTERNATIONAL TRADE COMMISSION

[USITC SE-14-015]

Sunshine Act Meetings

AGENCY HOLDING THE MEETING: United States International Trade Commission.

TIME AND DATE: May 23, 2014 at 11 a.m.

PLACE: Room 101, 500 E Street SW., Washington, DC 20436, Telephone: (202) 205-2000.

STATUS: Open to the public.

MATTERS TO BE CONSIDERED:

1. Agendas for future meetings: none.

2. Minutes.

3. Ratification List.

4. Vote in Inv. Nos. 701-TA-449 and 731-TA-1118-1121 (Review) (Light-Walled Rectangular Pipe and Tube from China, Korea, Mexico, and Turkey). The Commission is currently scheduled to complete and file its determinations and views of the Commission on June 6, 2014.

5. Outstanding action jackets: none.

In accordance with Commission policy, subject matter listed above, not disposed of at the scheduled meeting, may be carried over to the agenda of the following meeting.

By order of the Commission.
Issued: May 13, 2014.
William R. Bishop,
Supervisory Hearings and Information Officer.

[FR Doc. 2014-11451 Filed 5-14-14; 11:15 am]

BILLING CODE 7020-02-P